ENVIRONMENTAL PROTECTION AGENCY

[FRL-8269-5]

Science Advisory Board Staff Office; EPA Clean Air Scientific Advisory Committee (CASAC); Notification of Public Advisory Committee Meeting and Consultation on EPA's Technical Assessment in Support of the Draft Lead Renovation, Repair and Painting (LRRP) Rule

AGENCY: Environmental Protection Agency (EPA).

ACTION: Notice.

SUMMARY: The U.S. Environmental Protection Agency (EPA or Agency) Science Advisory Board (SAB) Staff Office announces a public meeting of the Clean Air Scientific Advisory Committee (CASAC) Panel (CASAC Panel) to conduct a consultation on EPA's Draft Assessment to Support the Lead Renovation, Repair, and Painting (LRRP) Rule (1st Draft LRRP Assessment, January 2007).

DATES: The meeting will be held on Monday, February 5, 2007 from 9 a.m. to 4 a.m. (Eastern Time).

ADDRESSES: The meeting will take place at the Marriott at Research Triangle Park, 4700 Guardian Drive, Durham, NC, 27703, phone: 919-941-6200.

FOR FURTHER INFORMATION CONTACT: Any member of the public who wishes to submit a written or brief oral statement (five minutes or less) or wants further information concerning this meeting must contact Mr. Fred Butterfield, Designated Federal Officer (DFO). Mr. Butterfield may be contacted at the EPA Science Advisory Board (1400F), U.S. Environmental Protection Agency, 1200 Pennsylvania Avenue, NW., Washington, DC 20460; or via telephone/voice mail: 202-343-9994; fax: 202-233-0643; or e-mail at: butterfield.fred@epa.gov. General information concerning the CASAC can be found on the EPA Web site at http://www.epa.gov/sab. Information concerning EPA technical contacts appears below in this Federal Register notice.

SUPPLEMENTARY INFORMATION:

Background

The CASAC, which is comprised of seven members appointed by the EPA Administrator, was established under section 109(d)(2) of the Clean Air Act (CAA or Act) (42 U.S.C. 7409) as an independent scientific advisory committee. The CASAC is chartered under the Federal Advisory Committee Act (FACA), as amended, 5 U.S.C., App. The CASAC Panel consists of the seven CASAC members supplemented by subject-matter-experts. The CASAC Panel provides advice and recommendations to EPA concerning lead in ambient air. The Panel complies with the provisions of FACA and all appropriate SAB Staff Office procedural policies.

EPA has proposed new requirements to reduce exposure to lead hazards created by renovation, repair, and painting activities that disturb lead-based paint. The Federal Register notice for the LRRP proposed rule is available at: http://edocket.access.gpo.gov/2006/06-71.htm. This action supports the attainment of the Federal government's goal of eliminating childhood lead poisoning by 2010. The proposed rule would establish requirements for training renovators and dust sampling technicians; certifying renovators, dust sampling technicians, and renovation firms; accrediting providers of renovation and dust sampling technician training; and for renovation work practices. In support of this rule-making activity, EPA's Office of Pollution Prevention and Toxics (OPPT), within the Agency's Office of Prevention, Pesticides and Toxic Substances (OPPTS), has requested that the CASAC conduct a consultation and a subsequent peer review on the Draft LRRP Assessment, and has made available for public review and comment a draft document, Draft Assessment to Support the Lead Renovation, Repair, and Painting Rule. This 1st Draft LRRP Assessment consists of three parts: A draft Assessment Plan, a draft Hazard Assessment; and a draft Exposure Assessment for Lead Dust Generated During Renovation, Repair, and Painting in Residences and Child-Occupied Facilities. In addition, the CASAC Panel will subsequently be asked to conduct a peer review of the 2nd Draft LRRP Assessment. For the purposes of this consultation, the CASAC will be augmented with members of the CASAC Panel and Science Advisory Board (SAB) Committee, who have expertise in indoor air exposure assessment. Biosketches of these experts and the members of the CASAC Panel are available on the SAB Web site at http://www.epa.gov/sab.

Technical Contacts

Any questions concerning the Agency's 1st Draft LRRP Assessment should be directed to Ms. Cathy Fehrenbacher, OPPT, at phone: 202-564-8551, or e-mail: fehrenbacher.cathy@epa.gov; or to Dr. Jennifer Seed, OPPT, at phone: 202-564-7634, or e-mail: seed.jennifer@epa.gov.

Availability of Meeting Materials

The 1st Draft LRRP Assessment can be accessed via EPA's Lead Web site at http://www.epa.gov/lead/pubs/casac.htm. In addition, a copy of the draft agenda and other materials for this CASAC meeting will be posted on the SAB Web Site at http://www.epa.gov/sab/panels/casacorpanel.html prior to the meeting.

Procedures for Providing Public Input

Interested members of the public may submit relevant written or oral information for the CASAC Panel to consider during the advisory process.

Oral Statements: In general, individuals or groups requesting an oral presentation at a public meeting will be limited to five minutes per speaker, with no more than a total of one hour for all speakers. Interested parties should contact Mr. Butterfield, DFO, in writing (preferably via e-mail), by January 29, 2007, at the contact information noted above, to be placed on the list of public speakers for this meeting. Written Statements: Written statements should be received in the SAB Staff Office by Thursday, February 1, 2007, so that the information may be made available to the CASAC Panel for their consideration prior to this meeting. Written statements should be supplied to the DFO in the following formats: One hard copy with original signature, and one electronic copy via e-mail (acceptable file format: Adobe Acrobat PDF, WordPerfect, MS Word, MS PowerPoint, or Rich Text files in IBM-PC/Windows 98/2000/XP format).

Accessibility

For information on access or services for individuals with disabilities, please contact Mr. Butterfield at the phone number or e-mail address noted above, preferably at least ten days prior to the meeting, to give EPA as much time as possible to process your request.

Dated: January 9, 2007.
Anthony F. Maciorowski,
Deputy Director, EPA Science Advisory Board Staff Office.

[FR Doc. E7-523 Filed 1-16-07; 8:45 am]

BILLING CODE 6560-50-P